DEPARTMENT OF STATE

[Public Notice: 9207]

Notification of United States-Chile Environment Affairs Council and Joint Commission on Environmental Cooperation Meetings

ACTION: Notice of the upcoming United States-Chile Environment Affairs Council and Joint Commission on Environmental Cooperation meetings and request for comments; invitation to public session.

SUMMARY: The Department of State and the Office of the United States Trade Representative are providing notice that the parties to the United States-Chile Free Trade Agreement (FTA) intend to hold the seventh meeting of the Environment Affairs Council (Council) established under Chapter 19 of the FTA, as well as the fifth meeting of the United States-Chile Joint Commission on Environmental Cooperation (Commission) established under the United States-Chile Environmental Cooperation Agreement (ECA), on Thursday, August 13, 2015. The Council will review implementation of Chapter 19 (Environment) of the FTA and the Commission will review implementation of the ECA. All interested persons are invited to attend the Council and Commission joint public session beginning at 3:00 p.m. on August 13 at the U.S. Department of State George C. Marshall Conference Center, 2201 C St. NW., Washington, DC.

During the Council and Commission meetings, Members will discuss the progress made in implementing Chapter 19 obligations and the impacts of environmental cooperation. The Commission will also finalize an updated Environmental Cooperation Work Program for 2015-2017. More information on the Council and Commission is included below under Supplementary Information.

All interested persons are invited to attend a public session where they will have an opportunity to ask questions and discuss implementation of Chapter 19 and the Environmental Cooperation Agreement with Council and Commission Members and environmental cooperation implementers. At the public session, the Council hopes to receive input from the public on current environmental issues and ideas for future cooperation. The Department of State and Office of the United States Trade Representative invite written comments or suggestions regarding topics to be discussed at the meeting. In preparing comments, we encourage submitters to refer to Chapter 19 of the FTA and the ECA (available at http://www.state.gov/e/oes/eqt/trade/chile/index.htm).

DATES: The public session of the Council and Commission will be held August 13, 2015 from 3:00-5:00 p.m. at the U.S. Department of State George C. Marshall Conference Center. We request RSVPs and any written comments no later than August 7, 2015 in order to facilitate consideration.

ADDRESSES: RSVPs and any written comments should be submitted to both:

(1) Katherine Weber, U.S. Department of State, Bureau of Oceans and International Environmental and Scientific Affairs, Office of Environmental Quality and Transboundary Issues by email at WeberKP@state.gov with the subject line “UNITED STATES-CHILE EAC/JCEC MEETING” or by fax to (202) 647-5947.

(2) David Oliver, Deputy Assistant U.S. Trade Representative for Environment and Natural Resources, Office of the United States Trade Representative, by email to David_Oliver@ustr.eop.gov with the subject line “UNITED STATES-CHILE EAC/JCEC MEETING” or by fax to (202) 395-9517.

In your RSVP, please include your full name and affiliation.

FOR FURTHER INFORMATION CONTACT: Katherine Weber, telephone (202) 647-2252.

SUPPLEMENTARY INFORMATION: The United States and Chile negotiated the United States-Chile Free Trade Agreement (FTA) and United States-Chile Environmental Cooperation Agreement (ECA) in concert, signing the FTA on June 6, 2003 in Miami, U.S.A. and the ECA on June 17, 2003 in Santiago, Chile. Article 19.3 of the FTA establishes an Environment Affairs Council (Council).The Council ordinarily meets annually to discuss implementation of Chapter 19 of the FTA and its meetings include a public session. The Joint Commission on Environmental Cooperation (Commission) was established in Article II of the ECA. The Commission meets at least every two years to evaluate cooperative activities under the agreement, to recommend options for improving cooperation, and to establish programs of work that reflect national priorities and identify the scope and focus of environmental cooperation work over the coming years.

The Council and Commission last met in January 2013 in Santiago, Chile. The Council reviewed the implementation of the Environment Chapter of the FTA. The Commission signed the 2012-2014 Work Program, which built on previous successes and identified activities to achieve the long-term goals of: (1) Strengthening effective implementation and enforcement of environmental laws and regulations; (2) encouraging development and adoption of sound environmental practices and technologies, particularly in business enterprises; (3) promoting sustainable development and management of environmental resources, including wild fauna and flora, protected wild areas, and other ecologically important ecosystems; and (4) encouraging civil society participation in the environmental decision-making process and environmental education.

If you would like to attend the public session, please notify Katherine Weber and David Oliver at the email addresses listed above under the heading ADDRESSES. Please include your full name and identify any organization or group you represent. In preparing comments, we encourage submitters to refer to:

• Chapter 19 of the FTA,

• The Final Environmental Review of the FTA, and

• The ECA.

These documents are available at: http://www.state.gov/e/oes/eqt/trade/chile/index.htm. Visit http://www.state.gov and the USTR Web site at www.ustr.gov for more information.

Dated: July 16, 2015.
John Thompson,
Acting Director, Office of Environmental Quality and Transboundary Issues, U.S. Department of State.

[FR Doc. 2015-18616 Filed 7-28-15; 8:45 am]

BILLING CODE 4710-09-P